DEPARTMENT OF TRANSPORTATION

Pipeline and Hazardous Materials Safety Administration

49 CFR Parts 172, 173, 176, 178

[Docket No. PHMSA-2011-0142 (HM-219)]

RIN 2137-AE79

Hazardous Materials: Miscellaneous Petitions for Rulemaking (RRR)

Correction

In rule document 2013-04197, appearing on pages 14702-14716 in the issue of Thursday, March 7, 2013, make the following correction:

§ 172.101 [Corrected]

On page 14713, the Table titled “§ 172.101 HAZARDOUS MATERIALS TABLE” is corrected to read as set forth below:

§ 172.101 HAZARDOUS MATERIALS TABLE
Symbols | Hazardous materials descriptions and proper shipping names | Hazard class or division | Identifi- cation No. | PG | Label Codes | Special Provisions (§ 172.102) | (8) Packaging (§ 173.***): Exceptions | (8) Packaging (§ 173.***): Non-bulk | (8) Packaging (§ 173.***): Bulk | (9) Quantity limitations: Passenger aircraft/rail | (9) Quantity limitations: Cargo aircraft only | (10) Vessel stowage: Location | (10) Vessel stowage: Other
(1) | (2) | (3) | (4) | (5) | (6) | (7) | (8A) | (8B) | (8C) | (9A) | (9B) | (10A) | (10B)
* * * * * * *
| [REVISE] |  |  |  |  |  |  |  |  |  |  |  |
* * * * * * *
| Powder, smokeless | 1.4C | UN0509 | II | 1.4C |  | None | 62 | None | Forbidden | Forbidden | 06 |
* * * * * * *
G | Self-reactive liquid type B | 4.1 | UN3221 | II | 4.1 | 53 | 151 | 224 | None | Forbidden | Forbidden | D | 52, 53
* * * * * * *
G | Self-reactive liquid type C | 4.1 | UN3223 | II | 4.1 |  | 151 | 224 | None | 5 L | 10 L | D | 52, 53
* * * * * * *
G | Self-reactive liquid type D | 4.1 | UN3225 | II | 4.1 |  | 151 | 224 | None | 5 L | 10 L | D | 52, 53
* * * * * * *
G | Self-reactive liquid type E | 4.1 | UN3227 | II | 4.1 |  | 151 | 224 | None | 10 L | 25 L | D | 52, 53
* * * * * * *
G | Self-reactive liquid type F | 4.1 | UN3229 | II | 4.1 |  | 151 | 224 | None | 10 L | 25 L | D | 52, 53
* * * * * * *
G | Self-reactive solid type B | 4.1 | UN3222 | II | 4.1 | 53 | 151 | 224 | None | Forbidden | Forbidden | D | 52, 53
* * * * * * *
G | Self-reactive solid type C | 4.1 | UN3224 | II | 4.1 |  | 151 | 224 | None | 5 kg | 10 kg | D | 52, 53
* * * * * * *
G | Self-reactive solid type D | 4.1 | UN3226 | II | 4.1 |  | 151 | 224 | None | 5 kg | 10 kg | D | 52, 53
* * * * * * *
G | Self-reactive solid type E | 4.1 | UN3226 | II | 4.1 |  | 151 | 224 | None | 5 kg | 10 kg | D | 52, 53
* * * * * * *
G | Self-reactive solid type F | 4.1 | UN3230 | II | 4.1 |  | 151 | 224 | None | 10 kg | 25 kg | D | 52, 53
* * * * * * *
| [REMOVE] |  |  |  |  |  |  |  |  |  |  |  |
* * * * * * *
| Gasohol gasoline mixed with ethyl alcohol, with not more than 10% alcohol | 3 | NA1203 | II | 3 | 144, 177 | 150 | 202 | 242 | 5 L | 60 L | E |
* * * * * * *

[FR Doc. C1-2013-04197 Filed 3-22-13; 8:45 am]

BILLING CODE 1505-01-D